DEPARTMENT OF TRANSPORTATION

Federal Aviation Administration

14 CFR Part 39

[Docket No. 2002-NM-186-AD; Amendment 39-13768; AD 2004-16-12]

RIN 2120-AA64

Airworthiness Directives; Boeing Model 767-200, -300, and -300F Series Airplanes

AGENCY: Federal Aviation Administration, DOT.

ACTION: Final rule.

SUMMARY: This amendment supersedes three existing airworthiness directives (AD); applicable to certain Boeing Model 767-200, -300, and -300F series airplanes. One AD currently requires modification of the nacelle strut and wing structure for certain Boeing Model 767-200, —300, and —300F series airplanes powered by Pratt & Whitney engines. The second AD currently requires a similar modification for certain Boeing Model 767-200, -300, and -300F series airplanes powered by General Electric engines. The third AD currently requires repetitive inspections for cracking of the outboard pitch load fittings of the wing front spar, and corrective action if necessary, for certain Boeing Model 767-200 series airplanes. The third AD also provides a terminating action for the repetitive inspections, which is optional for uncracked pitch load fittings. This amendment requires, for airplanes subject to the first and second existing ADs on which certain modifications have been accomplished previously, reworking the aft pitch load fitting, and installing a new diagonal brace fuse pin. This amendment also requires, for airplanes subject to the third existing AD, replacing the outboard pitch load fitting of the wing front spar with a new, improved fitting, which terminates certain currently required repetitive inspections. The actions specified by this amendment are intended to prevent fatigue cracking in primary strut structure, which could result in separation of the strut and engine from the airplane. This action is intended to address the identified unsafe condition.

DATES: Effective September 21, 2004.

The incorporation by reference of certain publications listed in the regulations is approved by the Director of the Federal Register as of September 21, 2004.

The incorporation by reference of Boeing Service Bulletin 767-57A0070, Revision 1, dated November 16, 2000, was approved previously by the Director of the Federal Register as of May 14, 2001 (66 FR 21069, April 27, 2001).

The incorporation by reference of Boeing Service Bulletin 767-54-0081, dated July 29, 1999, was approved previously by the Director of the Federal Register as of May 7, 2001 (66 FR 17492, April 2, 2001).

The incorporation by reference of certain publications, as listed in the regulations, was approved previously by the Director of the Federal Register as of March 5, 2001 (66 FR 8085, January 29, 2001).

The incorporation by reference of certain other publications, as listed in the regulations, was approved previously by the Director of the Federal Register as of October 17, 2000 (65 FR 58641, October 2, 2000).

The incorporation by reference of Boeing Service Bulletin 767-57-0053, Revision 2, dated September 23, 1999, was approved previously by the Director of the Federal Register as of July 24, 2000 (65 FR 37843, June 19, 2000).

ADDRESSES: The service information referenced in this AD may be obtained from Boeing Commercial Airplanes, P.O. Box 3707, Seattle, Washington 98124-2207. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION: A proposal to amend part 39 of the Federal Aviation Regulations (14 CFR part 39) by superseding the following ADs was published in the Federal Register on February 11, 2004 (69 FR 6587):

• AD 2001-02-07, amendment 39-12091 (66 FR 8085, January 29, 2001), which is applicable to certain Boeing Model 767-200, -300, and -300F series airplanes powered by Pratt & Whitney engines.

• AD 2001-06-12, amendment 39-12159 (66 FR 17492, April 2, 2001), applicable to certain Boeing Model 767-200, -300, and -300F series airplanes powered by General Electric engines.

• AD 2001-08-23, amendment 39-12200 (66 FR 21069, April 27, 2001), applicable to certain Boeing Model 767-200 series airplanes.

The action proposed to continue to require modification of the nacelle strut and wing structure, as currently required by AD 2001-02-07 and AD 2001-06-12. The action also proposed to continue to require repetitive inspections for cracking of the outboard pitch load fittings of the wing front spar, and corrective action if necessary, as currently required by AD 2001-08-23. The action also proposed to continue to provide a terminating action for the repetitive inspections, which is optional for uncracked pitch load fittings. For certain airplanes on which certain modifications have been accomplished previously, the action proposed to add new requirements for reworking the aft load pitch fitting, and installing a new diagonal brace fuse pin. For certain other airplanes, the action proposed to add a new requirement for replacing the outboard pitch load fitting of the wing front spar with a new, improved fitting on the left- and right-hand sides of the airplane, which would terminate repetitive inspections currently required by AD 2001-08-23.

Comments

Interested persons have been afforded an opportunity to participate in the making of this amendment. The FAA has duly considered the single comment received.

Request To Clarify Required Actions

The commenter states that the Accomplishment Instructions of Boeing Service Bulletin 767-54-0081, Revision 1, dated February 7, 2002, specify installing a new pitch load fitting with a new part number. The commenter states that the Accomplishment Instructions do not specify reworking the aft load pitch fitting, as stated in the “Differences Between Proposed AD and Service Bulletins” section of the proposed AD. The commenter requests that we revise the proposed AD to clarify that any operator that has accomplished the strut improvement modification per the original issue of Boeing Service Bulletin 767-54-0081, dated July 29, 1999, must accomplish the additional rework in Boeing Service Bulletin 767-54-0081, Revision 1. The commenter notes that this is supported by “Note 7 (1)” of the proposed AD, which indicates that no further action is needed if aft pitch load fittings with certain part numbers are installed.

We do not agree with the commenter's statement that the Accomplishment Instructions in Revision 1 of the service bulletin do not specify reworking the aft load pitch fitting. The commenter is correct that the Accomplishment Instructions do specify installing a new pitch load fitting with a new part number for airplanes not modified per the original issue of the service bulletin. However, Paragraph CB. under “Additional Work Required—Group 3 through 12 Airplanes” in the Accomplishment Instructions of the service bulletin specifies reworking the affected aft pitch load fitting and installing the diagonal brace with a new fuse pin for airplanes with an aft pitch load fitting with certain part numbers.

However, we agree that clarifying paragraph (l) of this AD would be helpful. (We note that the paragraph that the commenter identifies as “Note 7 (1)” is actually paragraph (l) of this AD—with a (lower-case) letter “L,” not with a number “1.” Paragraph (l) is independent from Note 7.) Paragraph (d) of this AD requires that strut modifications performed after the effective date of this AD be done per Revision 1 of that service bulletin. The requirements of paragraph (l) of this AD should apply only to airplanes that have been modified before the effective date of this AD per the original issue of Boeing Service Bulletin 767-54-0081. We recognize that the wording in paragraph (l) of the proposed AD could inadvertently require extra work for any operator who accomplished Revision 1 of the service bulletin before the effective date of this AD. This was not our intent. Therefore, for clarification, we have revised paragraph (l) of this AD to apply only to subject airplanes “on which the modification required by paragraph (d) of this AD has been accomplished per the original issue of Boeing Service Bulletin 767-54-0081. * * *”

Conclusion

After careful review of the available data, including the comment noted above, we have determined that air safety and the public interest require the adoption of the rule as proposed.

Cost Impact

There are approximately 619 airplanes of the affected design in the worldwide fleet. We estimate that 255 airplanes of U.S. registry will be affected by this AD.

The following table shows the estimated costs associated with the actions currently required by ADs 2001-02-07, 2001-06-12, and 2001-08-23, at an average labor rate of $65 per work hour:

Estimated Cost Impact—Actions Currently Required
Actions in Boeing service bulletin | Number of affected U.S.- registered airplanes | Work hours | Parts cost | Cost per airplane | Fleet cost
76-54-0080 | 86 | ¹1,423-1,519 | Free | $92,495-$98,735 | $7,954,570-$8,491,210
767-54-0081 | 169 | ¹1,474 | Free | 95,810 | 16,191,890
767-54-0069 | 249 | 106 | Free | 6,890 | 1,715,610
767-54-0083 | 228 | 1 | Free | 65 | 14,820
767-54-0088 | 255 | 2 | Free | 130 | 33,150
767-54A0094 | 117 | 20 | Free | 1,300 | 152,100
767-57-0053 | 255 | 5 | None | 325 | 82,875
767-29-0057 | 200 | 16 | Free | 1,040 | 208,000
767-57A0070 | 67 | 4 | None | ²260 | ²17,420
¹ Including time for gaining access and closing up.)
² Per inspection cycle.

For affected airplanes, the new inspection to determine the part number of the aft load pitch fittings that is required by this AD will take approximately 1 work hour per airplane to accomplish, at an average labor rate of $65 per work hour. Based on these figures, the cost impact of this requirement is estimated to be $65 per airplane.

For affected airplanes, the new replacement of the outboard pitch load fittings that is required by this AD takes approximately 14 work hours per airplane to accomplish, at an average labor rate of $65 per work hour. Required parts cost approximately $14,438 per airplane. Based on these figures, the cost impact of this requirement is estimated to be $15,348 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions; however, as noted previously, time to gain access and close up has been included for certain actions in this AD.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendments 39-12091 (66 FR 8085, January 29, 2001), 39-12159 (66 FR 17492, April 2, 2001), and 39-12200 (66 FR 21069, April 27, 2001); and by adding a new airworthiness directive (AD), amendment 39-13768, to read as follows:

2004-16-12 Boeing: Amendment 39-13768. Docket 2002-NM-186-AD. Supersedes AD 2001-02-07, Amendment 39-12091; AD 2001-06-12, Amendment 39-12159; and AD 2001-08-23, Amendment 39-12200.

Applicability: Model 767-200, -300, and -300F series airplanes; certificated in any category; line numbers (L/Ns) 1 through 663 inclusive; powered by Pratt & Whitney or General Electric engines.

Compliance: Required as indicated, unless accomplished previously.

To prevent fatigue cracking in primary strut structure, which could result in separation of the strut and engine from the airplane, accomplish the following:

Requirements of AD 2001-02-07

Modifications

(a) For Model 767-200, -300, and -300F series airplanes powered by Pratt & Whitney engines, L/Ns 1 through 663 inclusive: When the airplane has reached the flight cycle threshold as defined by the flight cycle threshold formula described in Figure 1 of Boeing Service Bulletin 767-54-0080, dated October 7, 1999, or Revision 1, dated May 9, 2002; or within 20 years since the date of manufacture; whichever occurs first; modify the nacelle strut and wing structure on both the left-hand and right-hand sides of the airplane, in accordance with the service bulletin. Use of the flight cycle threshold formula described in Figure 1 of the service bulletin is an acceptable alternative to the 20-year threshold, provided the corrosion prevention and control program inspections, as described in paragraphs 1 and 2 of Figure 1, have been met. As of the effective date of this AD, only Revision 1 of the service bulletin may be used.

(b) For Model 767-200, -300, and -300F series airplanes powered by Pratt & Whitney engines, L/Ns 1 through 663 inclusive: Prior to or concurrently with the accomplishment of the modification of the nacelle strut and wing structure required by paragraph (a) of this AD; as specified in paragraph 1.D., Table 2, of Boeing Service Bulletin 767-54-0080, dated October 7, 1999, or Revision 1, dated May 9, 2002; accomplish the actions specified in Boeing Service Bulletins 767-54-0069, Revision 1, dated January 29, 1998, or Revision 2, dated August 31, 2000; 767-54-0083, dated September 17, 1998; 767-54-0088, Revision 1, dated July 29, 1999; 767-54A0094, Revision 1, dated September 16, 1999, or Revision 2, dated February 7, 2002; 767-57-0053, Revision 2, dated September 23, 1999; and 767-29-0057, dated December 16, 1993, including Notice of Status Change NSC 1, dated November 23, 1994; or Revision 1, dated August 14, 2003; as applicable; in accordance with those service bulletins. Accomplishment of this paragraph constitutes terminating action for the repetitive inspections required by AD 94-11-02, amendment 39-8918; AD 2000-07-05, amendment 39-11659; and AD 2000-12-17, amendment 39-11795.

Note 1: Paragraph (b) of this AD specifies prior or concurrent accomplishment of Boeing Service Bulletin 767-57-0053, Revision 2, dated September 23, 1999; however, Table 2 of Boeing Service Bulletin 767-54-0080, dated October 7, 1999, specifies prior or concurrent accomplishment of the original issue of the service bulletin. Therefore, accomplishment of the applicable actions specified in Boeing Service Bulletin 767-57-0053, dated June 27, 1996, or Revision 1, dated October 31, 1996, prior to the effective date of this AD, is considered acceptable for compliance with the actions in Boeing Service Bulletin 767-57-0053 required by paragraph (b) of this AD.

Repair

(c) For Model 767-200, -300, and -300F series airplanes powered by Pratt & Whitney engines, L/Ns 1 through 663 inclusive: If any damage (corrosion or cracking) to the airplane structure is found during the accomplishment of the modification required by paragraph (a) of this AD; and the service bulletin specifies to contact Boeing for appropriate action: Prior to further flight, repair in accordance with a method approved by the Manager, Seattle Aircraft Certification Office (ACO), FAA; or in accordance with data meeting the type certification basis of the airplane approved by a Boeing Company Designated Engineering Representative (DER) who has been authorized by the FAA to make such findings. For a repair method to be approved by the Manager, Seattle ACO, as required by this paragraph, the Manager's approval letter must specifically reference this AD.

Requirements of AD 2001-06-12

Modification

(d) For Model 767-200, -300, and -300F series airplanes powered by General Electric engines, L/Ns 1 through 663 inclusive: Modify the nacelle strut and wing structure on both the left-hand and right-hand sides of the airplane, in accordance with Boeing Service Bulletin 767-54-0081, dated July 29, 1999; or Revision 1, dated February 7, 2002; at the later of the times specified in paragraphs (d)(1) and (d)(2) of this AD. After the effective date of this AD, only Revision 1 may be used.

(1) Prior to the accumulation of 37,500 total flight cycles, or within 20 years since date of manufacture, whichever occurs first. Use of the optional threshold formula described in Figure 1 of the service bulletin is an acceptable alternative to the 20-year threshold provided that the conditions specified in Figure 1 of the service bulletin are met. For the optional threshold formula in Figure 1 to be used, actions in the service bulletins listed in Item 2 of Figure 1 must be accomplished no later than 20 years since the airplane's date of manufacture.

(2) Within 3,000 flight cycles after May 7, 2001 (the effective date of AD 2001-06-12).

(e) For Model 767-200, -300, and -300F series airplanes powered by General Electric engines, L/Ns 1 through 663 inclusive: Prior to or concurrently with the accomplishment of the modification of the nacelle strut and wing structure required by paragraph (d) of this AD; as specified in paragraph 1.D., Table 2, “Prior or Concurrent Service Bulletins,” of Boeing Service Bulletin 767-54-0081, dated July 29, 1999; or Revision 1, dated February 7, 2002; accomplish the actions specified in Boeing Service Bulletin 767-29-0057, dated December 16, 1993, or Revision 1, dated August 14, 2003; Boeing Service Bulletin 767-54-0069, Revision 1, dated January 29, 1998, or Revision 2, dated August 31, 2000; Boeing Service Bulletin 767-54-0083, dated September 17, 1998; Boeing Service Bulletin 767-54-0088, Revision 1, dated July 29, 1999; Boeing Service Bulletin 767-54A0094, Revision 1, dated September 16, 1999, or Revision 2, dated February 7, 2002; and Boeing Service Bulletin 767-57-0053, Revision 2, dated September 23, 1999; as applicable, in accordance with those service bulletins.

Note 2: AD 2000-12-17, amendment 39-11795, requires accomplishment of Boeing Service Bulletin 767-57-0053, Revision 2, dated September 23, 1999. However, inspections and rework accomplished in accordance with Boeing Service Bulletin 767-57-0053, Revision 1, dated October 31, 1996, are acceptable for compliance with the applicable actions required by paragraph (e) of this AD.

Note 3: AD 2000-07-05, amendment 39-11659, requires accomplishment of Boeing Service Bulletin 767-54A0094, dated May 22, 1998. Inspections and rework accomplished in accordance with Boeing Service Bulletin 767-54A0094, dated May 22, 1998, are acceptable for compliance with the applicable actions required by paragraph (e) of this AD.

Note 4: AD 2001-02-07, amendment 39-12091, requires accomplishment of Boeing Service Bulletin 767-54-0069, Revision 1, dated January 29, 1998, or Revision 2, dated August 31, 2000. Inspections and rework accomplished in accordance with those service bulletins are acceptable for compliance with the applicable actions required by paragraph (e) of this AD.

Repairs

(f) For Model 767-200, -300 and -300F series airplanes powered by General Electric engines, L/Ns 1 through 663 inclusive: If any damage to the airplane structure is found during the accomplishment of the modification required by paragraph (d) of this AD, and the service bulletin specifies to contact Boeing for appropriate action, prior to further flight, repair in accordance with a method approved by the Manager, Seattle ACO, or a Boeing Company DER who has been authorized by the FAA to make such findings. For a repair method to be approved by the Manager, Seattle ACO, as required by this paragraph, the Manager's approval letter must specifically reference this AD.

Requirements of AD 2001-08-23

Initial and Repetitive Inspections

(g) For Model 767-200 series airplanes, as listed in Boeing Service Bulletin 767-57A0070, Revision 1, dated November 16, 2000: Within 30 days after May 14, 2001 (the effective date of AD 2001-08-23, amendment 39-12200), perform a high frequency eddy current (HFEC) inspection for cracking of the outboard pitch load fitting of the wing front spar, on the left-hand and right-hand sides of the airplane, according to Boeing Service Bulletin 767-57A0070, Revision 1, dated November 16, 2000; Revision 2, dated August 2, 2001; or Revision 3, dated November 8, 2001. If no cracking is found, repeat the inspection at intervals not to exceed 3,000 flight cycles or 18 months, whichever occurs first, until paragraph (i) or (m) of this AD is done.

Note 5: Inspections done prior to the effective date of this AD, in accordance with Boeing Service Bulletin 767-57A0070, dated March 2, 2000, as revised by Information Notice 767-57A0070 IN 01, dated March 23, 2000, are considered acceptable for compliance with paragraph (g) of this AD.

Corrective Action

(h) For Model 767-200 series airplanes, as listed in Boeing Service Bulletin 767-57A0070, Revision 1, dated November 16, 2000: If any cracking is found during any inspection per paragraph (g) of this AD, prior to further flight, do paragraph (h)(1) or (h)(2) of this AD.

(1) Rework the cracked outboard pitch load fitting according to a method approved by the Manager, Seattle ACO, or according to data meeting the type certification basis of the airplane approved by a Boeing Company DER who has been authorized by the Manager, Seattle ACO, to make such findings. For a rework method to be approved by the Manager, Seattle ACO, as required by this paragraph, the Manager's approval letter must specifically reference this AD.

(2) Replace the cracked outboard pitch load fitting with a new, improved fitting (including removing the existing fittings, performing an HFEC inspection for damage of fastener holes, repairing damaged fastener holes, and installing new fittings of improved design), according to Boeing Service Bulletin 767-57A0070, Revision 1, dated November 16, 2000; Revision 2, dated August 2, 2001; or Revision 3, dated November 8, 2001. Such replacement terminates the repetitive inspections required by paragraph (g) of this AD for the replaced fitting.

Note 6: Boeing Service Bulletin 767-57A0070, Revision 1, refers to Boeing Service Bulletin 767-57-0053 as an additional source of service information for accomplishment of the replacement of the outboard pitch load fitting on Model 767-200 series airplanes.

Optional Terminating Action

(i) For Model 767-200 series airplanes, as listed in Boeing Service Bulletin 767-57A0070, Revision 1, dated November 16, 2000: Replacement of the outboard pitch load fitting of the wing front spar with a new, improved fitting, according to Boeing Service Bulletin 767-57A0070, Revision 1, dated November 16, 2000; Revision 2, dated August 2, 2001; or Revision 3, dated November 8, 2001; terminates the repetitive inspections required by paragraph (g) of this AD for the replaced fitting.

Spares

(j) For Model 767-200 series airplanes, as listed in Boeing Service Bulletin 767-57A0070, Revision 1, dated November 16, 2000: As of May 14, 2001, no one may install on any airplane an outboard pitch load fitting that has a part number listed in the “Existing Part Number” column of Paragraph 2.E. of Boeing Service Bulletin 767-57A0070, Revision 1, dated November 16, 2000.

New Requirements of This AD

Boeing Service Bulletin 767-54-0080, Revision 1, Groups 4 Through 10: Inspection and Additional Work, if Necessary

(k) For airplanes listed in Groups 4 through 10 of Boeing Service Bulletin 767-54-0080, Revision 1, dated May 9, 2002, on which the modification required by paragraph (a) of this AD has been accomplished prior to the effective date of this AD: Within 18 months after the effective date of this AD, perform an inspection of the aft pitch load fitting of the wing front spar to determine the part number (P/N) of the fitting.

(1) If the aft pitch load fitting on the left-hand side of the airplane has P/N 112T7005-57 and the aft pitch load fitting on the right-hand side of the airplane has P/N 112T7005-58: No further action is required by this paragraph.

(2) If the aft pitch load fitting on the left-hand side of the airplane has P/N 112T7005-53 or the aft pitch load fitting on the right-hand side of the airplane has P/N 112T7005-54: Within 18 months after the effective date of this AD, rework the affected aft pitch load fitting and install the diagonal brace with a new fuse pin, in accordance with Steps E. and F. under the heading “Additional Work Required—Group 4 through 10 Airplanes” in the Accomplishment Instructions of the service bulletin.

Note 7: This AD does not require the installation of new markers that is specified under the heading “Additional Work Required—Group 4 through 10 Airplanes” in the Accomplishment Instructions of Boeing Service Bulletin 767-54-0080, Revision 1, dated May 9, 2002.

Boeing Service Bulletin 767-54-0081, Revision 1, Groups 3 Through 12: Inspection and Additional Work, if Necessary

(l) For airplanes listed in Groups 3 through 12 of Boeing Service Bulletin 767-54-0081, Revision 1, dated February 7, 2002, on which the modification required by paragraph (d) of this AD has been accomplished per the original issue of Boeing Service Bulletin 767-54-0081, dated July 29, 1999: Within 18 months after the effective date of this AD, perform an inspection of the aft pitch load fitting of the wing front spar to determine the P/N of the fitting.

(1) If the aft pitch load fitting on the left-hand side of the airplane has P/N 112T7005-57 and the aft pitch load fitting on the right-hand side of the airplane has P/N 112T7005-58: No further action is required by this paragraph.

(2) If the aft pitch load fitting on the left-hand side of the airplane has P/N 112T7005-53 or the aft pitch load fitting on the right-hand side of the airplane has P/N 112T7005-54: Within 18 months after the effective date of this AD, rework the affected aft pitch load fitting and install the diagonal brace with a new fuse pin, in accordance with Steps CB. and CC. under the heading “Additional Work Required—Group 3 through 12 Airplanes” in the Accomplishment Instructions of the service bulletin.

Note 8: This AD does not require the installation of new markers that is specified under the heading “Additional Work Required—Group 3 through 12 Airplanes” in the Accomplishment Instructions of Boeing Service Bulletin 767-54-0081, Revision 1, dated February 7, 2002.

L/Ns 1-101 Inclusive: Replacement of Outboard Pitch Load Fitting

(m) For Model 767-200 series airplanes having L/Ns 1 through 101 inclusive: At the applicable time specified in paragraph (m)(1) or (m)(2) of this AD, replace the outboard pitch load fitting of the wing front spar, on the left- and right-hand sides of the airplane, with a new, improved fitting, in accordance with the Accomplishment Instructions of Boeing Service Bulletin 767-57A0070, Revision 1, dated November 16, 2000; Revision 2, dated August 2, 2001; or Revision 3, dated November 8, 2001. Accomplishment of this replacement constitutes terminating action for the repetitive inspections required by paragraph (g) of this AD.

(1) For airplanes on which the modification required by paragraph (a) or (d) of this AD, as applicable, has not been accomplished before the effective date of this AD: Do the replacement prior to or concurrently with the accomplishment of the modification of the nacelle strut and wing structure required by paragraph (a) of this AD, as specified in paragraph 1.D., Table 2, of Boeing Service Bulletin 767-54-0080, Revision 1, dated May 9, 2002.

(2) For airplanes on which the modification required by paragraph (a) or (d) of this AD, as applicable, has been accomplished before the effective date of this AD: Do the replacement within 48 months after the effective date of this AD.

Alternative Methods of Compliance

(n)(1) In accordance with 14 CFR 39.19, the Manager, Seattle ACO, is authorized to approve alternative methods of compliance (AMOCs) for this AD.

(2) An AMOC that provides an acceptable level of safety may be used for a repair required by this AD, if it is approved by a Boeing Company DER who has been authorized by the Manager, Seattle ACO, to make such findings.

(3) AMOCs approved previously per AD 2001-02-07, amendment 39-12091, are approved as alternative methods of compliance with the applicable actions in paragraphs (a), (b), and (c) of this AD.

(4) AMOCs approved previously per AD 2001-06-12, amendment 39-12159, are approved as alternative methods of compliance with the applicable actions in paragraphs (d), (e), and (f) of this AD.

(5) AMOCs approved previously in accordance with AD 2000-12-17, amendment 39-11795; AD 2000-07-05, amendment 39-11659; AD 2001-02-07, amendment 39-12091; and AD 94-11-02, amendment 39-8918; are approved as alternative methods of compliance with the applicable actions in paragraph (e) of this AD.

(6) AMOCs approved previously per AD 2001-08-23, amendment 39-12200, are approved as alternative methods of compliance with the applicable actions in paragraphs (g), (h), and (i) of this AD.

Incorporation by Reference

(o) Unless otherwise specified in this AD, the actions shall be done in accordance with the Boeing Service Bulletins listed in Table 1 of this AD, as applicable.

Table 1.—Boeing Service Bulletins Incorporated by Reference
Service bulletin | Revision | Date
767-29-0057 | Original | December 16, 1993.
767-29-0057 NSC 1 | Original | November 23, 1994.
767-29-0057 | 1 | August 14, 2003.
767-54-0069 | 1 | January 29, 1998.
767-54-0069 | 2 | August 31, 2000.
767-54-0080 | Original | October 7, 1999.
767-54-0080, Including Appendices A, B, and C | 1 | May 9, 2002.
767-54-0081 | Original | July 29, 1999.
767-54-0081, Including Appendices A, B, C, and D | 1 | February 7, 2002.
767-54-0083 | Original | September 17, 1998.
767-54-0088 | 1 | July 29, 1999.
767-54A0094 | 1 | September 16, 1999.
767-54A0094 | 2 | February 7, 2002.
767-57-0053 | 2 | September 23, 1999.
767-57A0070 | 1 | November 16, 2000.
767-57A0070 | 2 | August 2, 2001.
767-57A0070 | 3 | November 8, 2001.

(1) The incorporation by reference of the Boeing Service Bulletins in Table 2 of this AD is approved by the Director of the Federal Register in accordance with 5 U.S.C. 552(a) and 1 CFR part 51:

Table 2.—New Boeing Service Bulletins Incorporated by Reference
Service bulletin | Revision | Date
767-29-0057 | 1 | August 14, 2003.
767-54-0080, Including Appendices A, B, and C | 1 | May 9, 2002.
767-54-0081, Including Appendices A, B, C, and D | 1 | February 7, 2002.
767-54A0094 | 2 | February 7, 2002.
767-57A0070 | 2 | August 2, 2001.
767-57A0070 | 3 | November 8, 2001.

(2) The incorporation by reference of Boeing Service Bulletin 767-57A0070, Revision 1, dated November 16, 2000, was approved previously by the Director of the Federal Register as of May 14, 2001 (66 FR 21069), April 27, 2001).

(3) The incorporation by reference of Boeing Service Bulletin 767-54-0081, dated July 29, 1999, was approved previously by the Director of the Federal Register as of May 7, 2001 (66 FR 17492, April 2, 2001).

(4) The incorporation by reference of the Boeing Service Bulletins in Table 3 of this AD was approved previously by the Director of the Federal Register as of March 5, 2001 (66 FR 8085, January 29, 2001).

Table 3.—Boeing Service Bulletins Previously Incorporated by Reference
Service bulletin | Revision | Date
767-29-0057 NSC 1 | Original | November 23, 1994.
767-54-0080 | Original | October 7, 1999.
767-54-0069 | 2 | August 31, 2000.
767-54A0094 | 1 | September 16, 1999.

(5) The incorporation by reference of the Boeing Service Bulletins in Table 4 of this AD was approved previously by the Director of the Federal Register as of October 17, 2000 (65 FR 58641, October 2, 2000).

Table 4.—Boeing Service Bulletins Previously Incorporated by Reference
Service bulletin | Revision | Date
767-29-0057 | Original | December 16, 1993.
767-54-0069 | 1 | January 29, 1998.
767-54-0083 | Original | September 17, 1998.
767-54-0088 | 1 | July 29, 1999.

(6) The incorporation by reference of Boeing Service Bulletin 767-57-0053, Revision 2, dated September 23, 1999, was approved previously by the Director of the Federal Register as of July 24, 2000 (65 FR 37843, June 19, 2000).

(7) Copies may be obtained from Boeing Commercial Airplanes, P.O. Box 3707, Seattle, Washington 98124-2207. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Effective Date

(p) This amendment becomes effective on September 21, 2004.

Issued in Renton, Washington, on July 29, 2004.
Ali Bahrami,
Manager, Transport Airplane Directorate, Aircraft Certification Service.

[FR Doc. 04-17984 Filed 8-16-04; 8:45 am]

BILLING CODE 4910-13-P